DEPARTMENT OF TRANSPORTATION

Surface Transportation Board

[STB Finance Docket No. 33908]

Arkansas Midland Railroad Company—Lease and Operation Exemption—Union Pacific Railroad Company

Arkansas Midland Railroad Company (AKMD), a Class III rail carrier, has filed a verified notice of exemption under 49 CFR 1150.41 to lease and operate pursuant to an agreement entered into with the Union Pacific Railroad Company (UP), approximately 7.42 miles of UP's rail lines in North Little Rock, AR, as follows: (1) A portion of the Carlisle Industrial Lead from UP's milepost 130.33 to the end of the line at UP's milepost 131.38, including side tracks appurtenant thereto, and (2) from UP's milepost 292.00 to UP's milepost 297.93, including side tracks appurtenant thereto, connecting with UP's mainline in North Little Rock Yard near milepost 343.40. AKMD certifies that its projected revenues as a result of this transaction will not result in the creation of a Class II or Class I rail carrier.

The transaction was scheduled to be consummated on or after August 11, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33908, must be filed with the Surface Transportation Board, Office of the Secretary, Case Control Unit, 1925 K Street, N.W., Washington, DC 20423-0001. In addition, one copy of each pleading must be served on Joseph D. Anthofer, 8041 Manderson Circle, Omaha, NE 68134.

Board decisions and notices are available on our website at “WWW.STB.DOT.GOV.”

Decided: August 15, 2000.
By the Board, David M. Konschnik, Director, Office of Proceedings.
Vernon A. Williams,
Secretary.

[FR Doc. 00-21234 Filed 8-22-00; 8:45 am]

BILLING CODE 4915-00-P